POSTAL SERVICE

Product Change—Parcel Return Service Contract 1 Negotiated Service Agreements

AGENCY: Postal Service™.

ACTION: Notice.

SUMMARY: Postal Service notice of filing a request with the Postal Regulatory Commission to add Parcel Return Service Contract 1 to the list of Negotiated Service Agreements in the Mail Classification Schedule's Competitive Products List pursuant to 39 U.S.C. 3642 and 3632(b)(3).

DATES: December 24, 2008.

FOR FURTHER INFORMATION CONTACT: Scott Reiter, 202-268-2999.

SUPPLEMENTARY INFORMATION: The United States Postal Service® hereby gives notice that on October 15, 2008, it filed with the Postal Regulatory Commission a Request of the United States Postal Service to Add Parcel Return Service Contract to Competitive Product List and Notice of Establishment of Rates and Class Not Of General Applicability. Documents are available at http://www.prc.gov, Docket Nos. MC2009-1, CP2009-2.

Neva R. Watson,
Attorney, Legislative.

[FR Doc. E8-30609 Filed 12-23-08; 8:45 am]

BILLING CODE 7710-12-P